DEPARTMENT OF COMMERCE

International Trade Administration

[A-475-826]

Certain Cut-to-Length Carbon-Quality Steel Plate Products From Italy: Preliminary Results of Antidumping Duty Administrative Review

AGENCY: Import Administration, International Trade Administration, Department of Commerce.

SUMMARY: In response to a request by an interested party, the Department of Commerce (the Department) is conducting an administrative review of the antidumping duty order on certain cut-to-length carbon-quality steel plate products from Italy. This review covers one producer/exporter of the subject merchandise, Evraz Palini Bertoli S.p.A. (Palini). The period of review (POR) is February 1, 2008 through January 31, 2009.

The Department has preliminarily determined that Palini made U.S. sales at prices less than normal value. If these preliminary results are adopted in our final results of administrative review, we will instruct U.S. Customs and Border Protection (CBP) to assess antidumping duties on all appropriate entries. Interested parties are invited to comment on these preliminary results of review. We intend to issue the final results of review no later than 120 days from the publication date of this notice.

DATES: Effective Date: January 29, 2010.

FOR FURTHER INFORMATION CONTACT: Dmitry Vladimirov or Minoo Hatten, AD/CVD Operations, Office 5, Import Administration, International Trade Administration, U.S. Department of Commerce, 14th Street and Constitution Avenue, NW., Washington, DC 20230, telephone: (202) 482-0665 or (202) 482-1690, respectively.

SUPPLEMENTARY INFORMATION:

Background

On February 10, 2000, the Department published in the Federal Register an antidumping duty order on certain cut-to-length carbon-quality steel plate products (steel plate) from Italy. See Notice of Amendment of Final Determinations of Sales at Less Than Fair Value and Antidumping Duty Orders: Certain Cut-to-Length Carbon-Quality Steel Plate Products From France, India, Indonesia, Italy, Japan and the Republic of Korea, 65 FR 6585 (February 10, 2000) (Order). On February 4, 2009, the Department published in the Federal Register a notice of “Opportunity To Request Administrative Review” of the order. See Antidumping or Countervailing Duty Order, Finding, or Suspended Investigation; Opportunity To Request Administrative Review, 74 FR 6013 (February 4, 2009).

In accordance with 19 CFR 351.213(b)(2), on March 2, 2009, Palini requested that the Department conduct an administrative review of its sales and entries of subject merchandise into the United States during the POR.¹ On March 24, 2009, the Department published a notice of initiation of an administrative review of the antidumping duty order on steel plate from Italy with respect to Palini. See Initiation of Antidumping and Countervailing Duty Administrative Reviews and Requests for Revocation in Part, 74 FR 12310 (March 24, 2009). On October 8, 2009, we extended the due date for the preliminary results of review by 86 days to January 25, 2010. See Certain Cut-to-Length Carbon-Quality Steel Plate Products From Italy: Extension of Time Limit for Preliminary Results of Antidumping Duty Administrative Review, 74 FR 53215 (October 16, 2009).

¹ The notice of “Opportunity To Request Administrative Review” stated that all requests for a review must be submitted no later than the last day of February 2009, or the next business day if the deadline falls on a weekend, federal holiday, or any other day when the Department is closed. Because February 28, 2009 fell on the weekend, Palini submitted its request for an administrative review on Monday, March 2, 2009.

The Department is conducting this administrative review in accordance with section 751 of the Tariff Act of 1930, as amended (the Act).

Scope of the Order

The products covered by the antidumping duty order are certain hot-rolled carbon-quality steel: (1) Universal mill plates (i.e., flat-rolled products rolled on four faces or in a closed box pass, of a width exceeding 150 mm but not exceeding 1250 mm, and of a nominal or actual thickness of not less than 4 mm, which are cut-to-length (not in coils) and without patterns in relief), of iron or non-alloy-quality steel; and (2) flat-rolled products, hot-rolled, of a nominal or actual thickness of 4.75 mm or more and of a width which exceeds 150 mm and measures at least twice the thickness, and which are cut-to-length (not in coils). Steel products included in the scope of the order are of rectangular, square, circular, or other shape and of rectangular or non-rectangular cross-section where such non-rectangular cross-section is achieved subsequent to the rolling process (i.e., products which have been “worked after rolling”)—for example, products which have been beveled or rounded at the edges. Steel products that meet the noted physical characteristics that are painted, varnished, or coated with plastic or other non-metallic substances are included within the scope. Also, specifically included in the scope of the order are high strength, low alloy (HSLA) steels. HSLA steels are recognized as steels with micro-alloying levels of elements such as chromium, copper, niobium, titanium, vanadium, and molybdenum. Steel products included in the scope, regardless of Harmonized Tariff Schedule of the United States (HTSUS) definitions, are products in which: (1) Iron predominates, by weight, over each of the other contained elements, (2) the carbon content is two percent or less, by weight, and (3) none of the elements listed below is equal to or exceeds the quantity, by weight, respectively indicated: 1.80 percent of manganese, or 1.50 percent of silicon, or 1.00 percent of copper, or 0.50 percent of aluminum, or 1.25 percent of chromium, or 0.30 percent of cobalt, or 0.40 percent of lead, or 1.25 percent of nickel, or 0.30 percent of tungsten, or 0.10 percent of molybdenum, or 0.10 percent of niobium, or 0.41 percent of titanium, or 0.15 percent of vanadium, or 0.15 percent zirconium. All products that meet the written physical description, and in which the chemistry quantities do not equal or exceed any one of the levels listed above, are within the scope of the order unless otherwise specifically excluded. The following products are specifically excluded from the order: (1) Products clad, plated, or coated with metal, whether or not painted, varnished or coated with plastic or other non-metallic substances; (2) SAE grades (formerly AISI grades) of series 2300 and above; (3) products made to ASTM A710 and A736 or their proprietary equivalents; (4) abrasion-resistant steels (i.e., USS AR 400, USS AR 500); (5) products made to ASTM A202, A225, A514 grade S, A517 grade S, or their proprietary equivalents; (6) ball bearing steels; (7) tool steels; and (8) silicon manganese steel or silicon electric steel.

Imports of steel plate are currently classified in the HTSUS under subheadings 7208.40.3030, 7208.40.3060, 7208.51.0030, 7208.51.0045, 7208.51.0060, 7208.52.0000, 7208.53.0000, 7208.90.0000, 7210.70.3000, 7210.90.9000, 7211.13.0000, 7211.14.0030, 7211.14.0045, 7211.90.0000, 7212.40.1000, 7212.40.5000, 7212.50.0000, 7225.40.3050, 7225.40.7000, 7225.50.6000, 7225.99.0090, 7226.91.5000, 7226.91.7000, 7226.91.8000, and 7226.99.0000. The HTSUS subheadings are provided for convenience and customs purposes. The written description of the merchandise covered by the order is dispositive.

Product Comparisons

In accordance with section 771(16) of the Act, we considered all products described by the “Scope of the Order” section above produced and sold by Palini in the comparison market during the POR to be foreign like product for the purposes of determining appropriate product comparisons to U.S. sales of subject merchandise. Specifically, in making our comparisons, we used the following methodology. If an identical comparison-market model was reported, we made comparisons to weighted-average comparison-market prices that were based on all sales which passed the cost-of-production (COP) test of the identical product during the relevant or contemporary month. We calculated the weighted-average comparison-market prices on a level of trade-specific basis. If there were no contemporaneous sales of an identical model, we identified the most similar comparison-market model. To determine the most similar model, we matched the foreign like product based on the physical characteristics reported by the respondent in the following order of importance: Whether painted, quality, specification/grade, heat treatment, thickness, width, patterns in relief, and descaling.

Date of Sale

Although the Department normally uses the date of invoice, as recorded in the producer's or exporter's records kept in the ordinary course of business, as the date of sale, the Department's regulations provide that the Department may use a date other than the date of invoice if the Secretary is satisfied that a different date better reflects the date on which the exporter or producer establishes the material terms of sale (e.g., price and quantity). See 19 CFR 351.401(i); see also Allied Tube and Conduit Corp. v. United States, 132 F. Supp. 2d 1087, 1090-92 (CIT 2001). In this case, the information on the record indicates that the material terms of sale were finalized at the time of the confirmation of the purchase order. Palini asserted that the invoice date better reflects the date of sale because the material terms of sale were subject to change and, in fact, did change when Palini's affiliated trading company and its unaffiliated U.S. customer agreed to a price adjustment. Accordingly, Palini reported the invoice date as the date of sale in its U.S. sales list.

We examined the information on the record and found that the material terms of U.S. sales did not change between the date of the purchase-order confirmation and the date of commercial invoices and that the price adjustment to which Palini refers is a post-sale adjustment because it occurred after the invoices were issued and the product was shipped. See Palini's June 3, 2009, questionnaire response at Exhibit A-8 and its August 14, 2009, supplemental questionnaire at page 4 and Exhibit 5. As the information on the record indicates that the material terms of sale (e.g., price and quantity) were not subject to change after the date of the purchase-order confirmation we preliminarily determine that this date better reflects the date on which the producer/exporter established and formalized the material terms of sale. Therefore, for purposes of the preliminary results of review, we have used the date of the purchase-order confirmation as the date of sale for Palini's U.S. sales. See memorandum from Dmitry Vladimirov to the File, “Administrative Review of Certain Cut-to-Length Carbon-Quality Steel Plate Products from Italy: Preliminary Results Analysis Memorandum for Evraz Palini Bertoli S.p.A.,” dated concurrently with this notice (Palini Analysis Memorandum), for additional information.

Fair-Value Comparison

To determine whether Palini's sales of the subject merchandise from Italy to the United States were at prices below normal value, we compared the export price to the normal value as described in the “Export Price” and “Normal Value” sections of this notice. Therefore, pursuant to section 777A(d)(2) of the Act, we compared the export price of individual U.S. transactions to the monthly weighted-average normal value of the foreign like product where there were sales made in the ordinary course of trade.

In its questionnaire response, Palini stated that the home-market sales, home-market price adjustments, and cost information were reported on the basis of actual weight whereas the U.S. sales and U.S. price adjustments were reported on the basis of theoretical weight. It is our practice to make all price comparisons using the same weight basis. See Notice of Final Determination of Sales at Less Than Fair Value: Hot-Rolled Flat-Rolled Carbon-Quality Steel Products From Japan, 64 FR 24329 (May 6, 1999). In Nippon Steel Corp. v. United States, 25 CIT 1405, 1406 (CIT 2001), and Persico Pizzamiglio, S.A. v. United States, 18 CIT 299, 302 (CIT 1994), the courts upheld the necessity of the conversion to the consistent weight basis in order to enable proper price comparisons. Further, the objective of comparing export price and normal value on a consistent weight basis does not dictate the preference of converting certain information reported on the basis of actual weight to theoretical weight in lieu of converting certain information reported on the basis of theoretical weight to the actual weight. See Light-Walled Rectangular Pipe and Tube From Mexico: Notice of Final Determination of Sales at Less Than Fair Value, 69 FR 53677, 53681 (September 2, 2004), and accompanying Issues and Decision Memorandum at Comment 16. Accordingly, we converted the U.S. sales and price adjustments that were reported on the basis of theoretical weight to an actual-weight basis. See the Palini Analysis Memorandum for additional information.

Export Price

The Department based the price of Palini's U.S. sales of subject merchandise on export price as defined in section 772(a) of the Act because the merchandise was sold, before importation, by a third country-based seller affiliated with the producer to unaffiliated purchasers in the United States. We calculated export price based on the packed, delivered price to unaffiliated purchasers in, or for exportation to, the United States. We made deductions to the starting price for billing adjustments and, in accordance with section 772(c)(2)(A) of the Act, movement expenses.

Normal Value

A. Universe of Sales

In its questionnaire responses, Palini reported that, in the normal course of business, it identifies certain sales as having a final destination outside Italy. Palini reported such sales as home-market sales. Palini asserted in its questionnaire responses that the sales in question were made to Italian customers, delivered within Italy, and Palini does not know the final destination for these sales except that they are to be exported. Where a respondent has no knowledge as to the destination of merchandise, except that it is for export, the Department classifies such sales as export sales and excludes them from the home-market sales database. See Stainless Steel Sheet and Strip in Coils from Taiwan: Preliminary Results and Preliminary Rescission in Part of Antidumping Duty Administrative Review, 73 FR 45393, 45396 (August 5, 2008) (Coils from Taiwan), unchanged in Stainless Steel Sheet and Strip in Coils From Taiwan: Final Results and Rescission in Part of Antidumping Duty Administrative Review, 73 FR 74704 (December 9, 2008). Further, in Coils from Taiwan we stated that, in Tung Mung Dev. Co., Ltd. v. United States, 25 CIT 752, 783 (CIT 2001), the court, quoting INA Walzlager Schaeffler KG v. United States, 957 F. Supp. 251 (CIT 1997), found that sales should be reported as home-market sales if the producer “knew or should have known that the merchandise it sold was for home consumption based upon the particular facts and circumstances surrounding the sales.”

Based on Palini's knowledge at the time of sale that the sales in question were destined for export, notwithstanding its lack of knowledge of the specific export destination, we have preliminarily determined that the sales in question were not for consumption in the home market. Therefore, we have excluded these sales from Palini's home-market sales database for these preliminary results of review. See the Palini Analysis Memorandum for additional information.

B. Home-Market Viability

In accordance with section 773(a)(1)(c) of the Act, in order to determine whether there was a sufficient volume of sales of steel plate in the comparison market to serve as a viable basis for calculating normal value, we compared the volume of the respondent's home-market sales of the foreign like product to its volume of the U.S. sales of the subject merchandise. Palini's quantity of sales in the home market was greater than five percent of its sales to the U.S. market. Based on this comparison of the aggregate quantities sold in the comparison market (i.e., Italy) and to the United States and absent any information that a particular market situation in the exporting country did not permit a proper comparison, we preliminarily determine that the quantity of the foreign like product sold by the respondent in the exporting country was sufficient to permit a proper comparison with the sales of the subject merchandise to the United States, pursuant to section 773(a)(1) of the Act. Thus, we determine that Palini's home market was viable during the POR. Id. Therefore, in accordance with section 773(a)(1)(B)(i) of the Act, we based normal value for the respondent on the prices at which the foreign like product was first sold for consumption in the exporting country in the usual commercial quantities and in the ordinary course of trade and, to the extent practicable, at the same level of trade as the U.S. sales.

C. Cost-of-Production Analysis

In the less-than-fair-value investigation the Department determined that Palini sold the foreign like product at prices below the cost of producing the merchandise and, as a result, excluded such sales from the calculation of normal value. See Preliminary Determinations of Sales at Less Than Fair Value: Certain Cut-To-Length Carbon-Quality Steel Plate Products From Italy, 64 FR 41213 (July 29, 1999), unchanged in Notice of Final Determination of Sales at Less Than Fair Value: Certain Cut-To-Length Carbon-Quality Steel Plate Products from Italy, 64 FR 73234 (December 29, 1999).² Therefore, in this review, we have reasonable grounds to believe or suspect that Palini's sales of the foreign like product under consideration for the determination of normal value may have been made at prices below COP as provided by section 773(b)(2)(A)(ii) of the Act and, pursuant to section 773(b)(1) of the Act, we have conducted a COP investigation of Palini's sales in the comparison market.

² We made a facts-available determination with an adverse inference in the most recently concluded administrative review (i.e., the 2004-2005 review). See Certain Cut-To-Length Carbon-Quality Steel Plate Products From Italy: Preliminary Results and Partial Rescission of Antidumping Duty Administrative Review, 71 FR 11178 (March 6, 2006), unchanged in Certain Cut-to-Length Carbon-Quality Steel Plate Products From Italy: Final Results and Partial Rescission of Antidumping Duty Administrative Review, 71 FR 39299 (July 12, 2006).

1. Calculation of Cost of Production

In accordance with section 773(b)(3) of the Act, we calculated the COP based on the sum of the costs of materials, fabrication, and labor employed in producing the foreign like product plus the amounts for the selling, general, and administrative (SG&A) expenses, financial expenses, and all costs and expenses incidental to packing the merchandise. In our COP analysis, we used the comparison-market sales and COP information provided by Palini in its supplemental questionnaire responses. We recalculated Palini's financial expenses by including the net value of foreign-exchange losses, consistent with our practice, as this better reflects the results of Palini's foreign-exchange management. See, e.g., Silicomanganese From Brazil: Final Results of Antidumping Duty Administrative Review, 69 FR 13813 (March 24, 2004) and accompanying Issues and Decision Memorandum at Comment 14. See the Palini Analysis Memorandum for additional information.

2. Test of Comparison-Market Sales Prices

After calculating the COP and in accordance with section 773(b)(1) of the Act, we tested whether comparison-market sales of the foreign like product were made at prices below the COP within an extended period of time in substantial quantities and whether such prices permitted the recovery of all costs within a reasonable period of time. See section 773(b)(2) of the Act. We compared model-specific COPs to the reported comparison-market prices less, where applicable, any billing adjustments, movement charges, commissions, indirect selling expenses, and packing expenses.

3. Results of the COP Test

Pursuant to section 773(b)(2)(C) of the Act, when less than 20 percent of Palini's sales of a given product were at prices less than the COP, we did not disregard any below-cost sales of that product because the below-cost sales were not made in substantial quantities within an extended period of time. When 20 percent or more of Palini's sales of a given product during the POR were at prices less than the COP, we disregarded the below-cost sales because they were made in substantial quantities within an extended period of time pursuant to sections 773(b)(2)(B) and (C) of the Act and because, based on comparisons of prices to weighted- average COPs for the POR, we determined that these sales were at prices which would not permit recovery of all costs within a reasonable period of time in accordance with section 773(b)(2)(D) of the Act.

In this case, we found that, for certain products, more than 20 percent of Palini's home-market sales were at prices less than the COP and, in addition, such sales did not provide for the recovery of costs within a reasonable period of time. Therefore, we excluded these sales and used the remaining sales as the basis for determining normal value in accordance with section 773(b)(1) of the Act.

D. Calculation of Normal Value Based on Comparison-Market Prices

We based normal value for Palini on packed, ex-works or delivered prices to unaffiliated customers in the home market. We made an adjustment to the starting price, where appropriate, for billing adjustments in accordance with 19 CFR 351.401(c). We made deductions, where appropriate, for movement expenses, limited to inland freight, under section 773(a)(6)(B)(ii) of the Act.

We made circumstance-of-sale adjustments by deducting home-market direct selling expenses from, and adding U.S. direct selling expenses to, normal value under section 773(a)(6)(C)(iii) of the Act. We also made adjustments, when applicable, for home-market indirect selling expenses incurred for U.S. sales to offset home-market commissions. See 19 CFR 351.410(e).

We made adjustments for differences in cost attributable to differences in physical characteristics of the merchandise pursuant to section 773(a)(6)(C)(ii) of the Act. We also deducted home-market packing costs and added U.S. packing costs in accordance with sections 773(a)(6)(A) and (B) of the Act.

When possible, we calculated normal value at the same level of trade as the export price. See below.

Level of Trade

In accordance with section 773(a)(1)(B) of the Act, to the extent practicable, we determine normal value based on sales in the comparison market at the same level of trade as the export price. Pursuant to 19 CFR 351.412(c)(1), the normal-value level of trade is based on the starting price of the sales in the comparison market or, when normal value is based on constructed value, the starting price of the sales from which we derive SG&A expenses and profit. For export price sales, the U.S. level of trade is based on the starting price of the sales in the U.S. market, which is usually from the exporter to the importer.

To determine whether comparison-market sales are at a different level of trade than export-price sales, we examine stages in the marketing process and selling functions along the chain of distribution between the producer and the unaffiliated customer. See 19 CFR 351.412(c)(2). If the comparison-market sales are at a different level of trade and the difference affects price comparability, as manifested in a pattern of consistent price differences between the sales on which normal value is based and the comparison-market sales at the level of trade of the export transaction, we make a level-of-trade adjustment under section 773(a)(7)(A) of the Act.

In this review, we obtained information from Palini regarding the marketing stages involved in making its reported home-market and U.S. sales, including a description of the selling activities Palini (or, where applicable, its affiliate(s)) performed for each channel of distribution.

During the POR, Palini reported that it sold steel plate in the home market to end-users and service centers. We found that the selling activities associated with these channels of distribution did not differ significantly.³ Specifically, we found that the provision of technical assistance and arrangement for freight delivery were the only selling activities differentiating home-market channels of distribution. Accordingly, we found that the home-market channels of distribution constituted a single level of trade.

³ Although Palini designated the provision of cash discounts and commission for one home-market channel of distribution and no provision of such services for the others, we did not consider them in our level-of-trade analysis because we adjust the starting price in the comparison market for these direct selling expenses pursuant to section 773(a)(6)(C)(iii) of the Act.

Palini reported that its export-price sales were made using one channel of distribution, sales by an affiliated trading company not based in the United States to U.S. trading companies/distributors. Accordingly, we found that the single export-price channel of distribution constituted a single level of trade. We found that the export-price level of trade was similar to the home-market level of trade in terms of selling activities. Specifically, we found that technical assistance and the arrangement for freight delivery were the only two selling functions Palini provided for both levels of trade. Accordingly, we considered the export-price level of trade to be similar to the home-market level of trade and not at a less advanced stage of distribution than the home-market level of trade. Therefore, we matched export-price sales to sales at the same level of trade in the home market. See section 773(a)(7)(A) of the Act.

Currency Conversion

Pursuant to 19 CFR 351.415, we converted amounts expressed in foreign currencies into U.S. dollar amounts based on the exchange rates in effect on the dates of the relevant U.S. sales, as certified by the Federal Reserve Bank.

Preliminary Results of Review

As a result of this review, we preliminarily determine that a weighted-average dumping margin of 17.75 percent exists for Palini for the period February 1, 2008, through January 31, 2009.

Disclosure and Public Comment

We will disclose the calculations used in our analysis to parties in this review within five days of the date of publication of this notice. Any interested party may request a hearing within 30 days of the publication of this notice in the Federal Register. If a hearing is requested, the Department will notify interested parties of the hearing schedule.

Interested parties are invited to comment on the preliminary results of this review. The Department will consider case briefs filed by interested parties within 30 days after the date of publication of this notice in the Federal Register. Interested parties may file rebuttal briefs, limited to issues raised in the case briefs. The Department will consider rebuttal briefs filed not later than five days after the time limit for filing case briefs. Parties who submit arguments are requested to submit with each argument a statement of the issue, a brief summary of the argument, and a table of authorities cited. Further, we request that parties submitting written comments provide the Department with a diskette containing an electronic copy of the public version of such comments.

We intend to issue the final results of this administrative review, including the results of our analysis of issues raised in the written comments, within 120 days of publication of these preliminary results in the Federal Register.

Assessment Rates

The Department shall determine, and CBP shall assess, antidumping duties on all appropriate entries. In accordance with 19 CFR 351.212(b)(1), we have calculated an importer-specific assessment rate for these preliminary results of review. We divided the total dumping margins for the reviewed sales by the total entered value of those reviewed sales for the importer. We will instruct CBP to assess the importer-specific rate uniformly, as appropriate, on all entries of subject merchandise made by the relevant importer during the POR. See 19 CFR 351.212(b). The Department intends to issue instructions to CBP 15 days after the publication of the final results of review.

The Department clarified its “automatic assessment” regulation on May 6, 2003. See Antidumping and Countervailing Duty Proceedings: Assessment of Antidumping Duties, 68 FR 23954 (May 6, 2003) (Assessment of Antidumping Duties). This clarification will apply to entries of subject merchandise during the POR produced by Palini for which Palini did not know its merchandise was destined for the United States. In such instances, we will instruct CBP to liquidate unreviewed entries of merchandise produced by Palini at the all-others rate if there is no rate for the intermediate company(ies) involved in the transaction. For a full discussion of this clarification, see Assessment of Antidumping Duties.

Cash-Deposit Requirements

The following deposit requirements will be effective upon publication of the notice of final results of administrative review for all shipments of steel plate from Italy entered, or withdrawn from warehouse, for consumption on or after the date of publication, as provided by section 751(a)(2)(C) of the Act: (1) The cash-deposit rate for Palini will be the rate established in the final results of this review; (2) for previously reviewed or investigated companies not listed above, the cash-deposit rate will continue to be the company-specific rate published for the most recent period; (3) if the exporter is not a firm covered in this review, a prior review, or the less-than-fair-value investigation but the manufacturer is, the cash-deposit rate will be the rate established for the most recent period for the manufacturer of the merchandise; (4) if neither the exporter nor the manufacturer has its own rate, the cash-deposit rate will be 7.85 percent, the all-others rate established in the Order. These deposit requirements, when imposed, shall remain in effect until further notice.

Notification to Importers

This notice also serves as a preliminary reminder to importers of their responsibility under 19 CFR 351.402(f) to file a certificate regarding the reimbursement of antidumping duties prior to liquidation of the relevant entries during this review period. Failure to comply with this requirement could result in the Department's presumption that reimbursement of antidumping duties occurred and the subsequent assessment of doubled antidumping duties.

These preliminary results of administrative review are issued and published in accordance with sections 751(a)(1) and 777(i)(1) of the Act.

Dated: January 25, 2010.
Ronald K. Lorentzen,
Deputy Assistant Secretary for Import Administration.

[FR Doc. 2010-1908 Filed 1-28-10; 8:45 am]

BILLING CODE 3510-DS-P